DEPARTMENT OF HOMELAND SECURITY

Coast Guard

33 CFR Part 165

[CGD09-03-203]

RIN 1625-AA00

Safety Zone; Captain of the Port Chicago Zone

AGENCY: Coast Guard, DHS.

ACTION: Notice of implementation of regulation.

SUMMARY: The Coast Guard is implementing safety zones for annual fireworks displays in the Captain of the Port Chicago Zone during July 2003. This action is necessary to provide for the safety of life and property on navigable waters during these events. These zones will restrict vessel traffic from a portion of the Captain of the Port Chicago Zone.

DATES: Effective from 12:01 a.m. (Local) on July 1, 2003 to 11:59 p.m. (Local) on July 31, 2003.

FOR FURTHER INFORMATION CONTACT: MST2 Kenneth Brockhouse, U.S. Coast Guard Marine Safety Office Chicago, IL at (630) 986-2155.

SUPPLEMENTARY INFORMATION: The Coast Guard is implementing the permanent safety zones in 33 CFR 165.918 (published May 20, 2003, in the Federal Register, 68 FR 27466), for fireworks displays and other marine events in the Captain of the Port Chicago Zone during July 2003. The following safety zones will be enforced for fireworks displays and other marine events occurring in the month of July 2003:

Navy Pier Summer Fireworks, Lake Michigan, Chicago, IL

This safety zone will be enforced every Wednesday and Saturday evening from 9 p.m. (local) until termination of display.

Evanston Fourth of July Fireworks—Evanston, IL

This safety zone will be enforced on July 4, 2003 from sunset through termination of display.

Independence Day Fireworks—Manistee, MI

This safety zone will be enforced on July 4, 2003 from sunset through termination of display.

Independence Day Fireworks—Lake Kalamazoo, Saugatuck, MI

This safety zone will be enforced on July 4, 2003 from sunset through termination of display.

Independence Day Fireworks—White Lake, Whitehall, MI

This safety zone will be enforced on July 4, 2003 from sunset through termination of display.

Pentwater July 3rd Fireworks—Lake Michigan, Pentwater, MI

This safety zone will be enforced on July 3, 2003 from sunset until termination of display.

Venetian Night Fireworks—Lake Kalamazoo, Saugatuck, MI

This safety zone will be enforced on July 26, 2003 from sunset through termination of display.

Team Aquatics Ski Show—Grand River, Grand Haven, MI

This safety zone will be enforced on July 29, 2003 from 6 p.m. (local) through 8:30 p.m.(local).

Navy Pier 4th of July Fireworks—Lake Michigan, Chicago, IL

This safety zone will be enforced on July 3, 2003 from sunset through termination of display.

In order to ensure the safety of spectators and transiting vessels, these safety zones will be in effect for the duration of the events. In cases where shipping is affected, commercial vessels may request permission from the Captain of the Port Chicago to transit the safety zone.

Approval will be made on a case-by case basis. Requests must be made in advance and approved by the Captain of Port before transits will be authorized. The Captain of the Port may be contacted by calling (630) 986-2155.

Dated: June 25, 2003.
Raymond E. Seebald,
Captain, Coast Guard, Captain of the Port Chicago.

[FR Doc. 03-17907 Filed 7-15-03; 8:45 am]

BILLING CODE 4910-15-U